DEPARTMENT OF TRANSPORTATION

Federal Aviation Administration

[Summary Notice No. PE-2000-36]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 28, 2000.

ADDRESSES: Send comments on any petition in triplicate to: Federal Aviation Administration, Office of the Chief Counsel, Attn: Rule Docket (AGC-200), Petition Docket No. _____, 800 Independence Avenue, SW, Washington, DC 20591.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW, Washington, DC 20591.

This notice is published pursuant to paragraphs (c), (e), and (g) of § 11.27 of part 11 of the Federal Aviation Regulations (14 CFR part 11).

Issued in Washington, DC on August 2, 2000.
Donald P. Byrne,
Assistant Chief Counsel for Regulations.

Dispositions of Petitions

Docket No.: 24237.

Petitioner: Department of the Air Force.

Section of the FAR Affected: 14 CFR 91.777(a)(2) and 91.179(b)(1).

Description of Relief Sought/Disposition: To permit the Air Force to conduct low-level operations without complying with en route minimum altitudes for flight under instrument flight rules (IFR) or direction of flight requirements for IFR en route segments in uncontrolled airspace.

Grant, 07/21/00, Exemption No. 4371E

Docket No.: 29974.

Petitioner: Mr. Joseph E. Fisher.

Section of the FAR Affected: 14 CFR 121.154 and 135.91.

Description of Relief Sought/Disposition: To permit the operator of an aircraft to allow you to furnish, carry, and operate certain oxygen storage, generating, and dispensing equipment for your medical use onboard the aircraft on which you are traveling.

Denial, 07/25/00, Exemption No. 7285

Docket No.: 21882.

Petitioner: China Airlines, Ltd.

Section of the FAR Affected: 14 CFR 61.77(a) and (b), and 63.23(a) and (b).

Description of Relief Sought/Disposition: To permit CAL airmen who operate two U.S.-registered Boeing 747-SP aircraft (Registration Nos. N4508H and N4522V) and three U.S.-registered Airbus A300-600R aircraft (Registration Nos. N88881, N88887, and N8888B) that are leased to a person who is not a citizen of the United States, for carrying persons or property for compensation or hire, to be eligible for special purpose airmen certificates.

Grant, 07/25/00, Exemption No. 4849H

Docket No.: 29648.

Petitioner: Aircraft Owners and Pilots Association.

Section of the FAR Affected: 14 CFR 135.21, 135.255, 135.353, and appendixes I and J to part 121

Description of Relief Sought/Disposition: To permit the AOPA member-pilots to conduct local sightseeing flights at charity or community events, for compensation or hire, without complying with certain anti-drug and alcohol misuse prevention requirements of part 135 .

Grant, 07/26/00, Exemption No. 7112A

Docket No.: 30068.

Petitioner: Douglas County AIDS Project.

Section of the FAR Affected: 14 CFR 135.251, 135.255, 135.353, and appendixes I and J to part 121

Description of Relief Sought/Disposition: To permit DCAP to conduct local sightseeing flights in the vicinity of Lawrence, Kansas, for its one-day charitable event in August 2000, for compensation or hire, without complying with certain anti-drug and alcohol misuse prevention requirements of part 135.

Grant, 07/20/00, Exemption No. 7278

Docket No.: 29715.

Petitioner: East Hill Flying Club.

Section of the FAR Affected: 14 CFR 135.251, 135.255, 135.353, and appendixes I and J to part 121

Description of Relief Sought/Disposition: To permit East Hill to conduct local sightseeing flights at Tompkins County Airport for three one-day pancake breakfasts, one each in August 2000, September 2000, and May 2001, for compensation or hire, without complying with certain anti-drug and alcohol misuse prevention requirements of part 135.

Grant, 07/20/00, Exemption No. 7279

Docket No.: 30018.

Petitioner: Mr. William Scholberg.

Section of the FAR Affected: 14 CFR 135.251, 135.255, 135.353, and appendixes I and J to part 121

Description of Relief Sought/Disposition: To permit Mr. William Scholberg to conduct four local sightseeing flights, donated to the Saints Martha and Mary Episcopal Church's silent auction, at an airport in the vicinity to Apple Valley, MN, for compensation on hire, without complying with certain anti-drug and alcohol misuse prevention requirements of part 135.

Grant, 07/21/00, Exemption No. 7213A

Docket No.: 29271.

Petitioner: Mr. Kerrick R. Philleo.

Section of the FAR Affected: 14 CFR 91.109(a).

Description of Relief Sought/Disposition: To permit Mr. Kerrick R. Philleo to conduct certain flight instruction to meet recent experience requirements in Beechcraft Bonanza and Beechcraft Debonair airplanes equipped with a functioning throwover control wheel in place of functioning dual controls.

Grant, 07/18/00, Exemption No. 6804A

Docket No.: 28723.

Petitioner: Ryan International Airlines, Inc.

Section of the FAR Affected: 14 CFR 91.203 (a) and (b).

Description of Relief Sought/Disposition: To permit Ryan to operate temporarily its U.S.-registered aircraft following the incidental loss of mutilation of that aircraft's airworthiness certificate or registration certificate, or both.

Grant, 07/18/00, Exemption No. 6571B

[FR Doc. 00-19934 Filed 8-4-00; 8:45 am]

BILLING CODE 4910-13-M